SECURITIES AND EXCHANGE COMMISSION

[Release No. 34-85740; File No. SR-Phlx- 2019-17]

Self-Regulatory Organizations; Nasdaq PHLX LLC; Notice of Filing and Immediate Effectiveness of Proposed Rule Change To Relocate the Floor Trading Rules to Options 8

April 29, 2019.

Correction

In notice document 2019-09019, appearing on pages 19136 through 19141, in the issue of Friday, May 3, 2019 make the following correction:

On page 19141, in the first column, on the eighth line from the bottom of the page, “June 3, 2019” should read “May 24, 2019”.

[FR Doc. C1-2019-09019 Filed 5-21-19; 8:45 am]

BILLING CODE 1301-01-D